DEPARTMENT OF THE INTERIOR

National Park Service

[NPS-WASO-NRNHL-21349; PPWOCRADI0, PCU00RP14.R50000]

National Register of Historic Places; Notification of Pending Nominations and Related Actions

AGENCY: National Park Service, Interior.

ACTION: Notice.

SUMMARY: The National Park Service is soliciting comments on the significance of properties nominated before June 18, 2016, for listing or related actions in the National Register of Historic Places.

DATES: Comments should be submitted by July 22, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before June 18, 2016. Pursuant to § 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

MISSOURI

St. Louis Independent City

St. Louis Mart and Terminal Warehouse, 1222 Spruce St., St. Louis (Independent City), 16000477

NEBRASKA

Colfax County

Schuyler Downtown Historic District, (Lincoln Highway in Nebraska MPS) Railside Dr., Colfax, 12th, C, D & 10th Sts., Schuyler, 16000478

Douglas County

Allas Apartments, (Apartments, Flats and Tenements in Omaha, Nebraska from 1880-1962 MPS) 1609 Binney St., Omaha, 16000479

Danish Brotherhood in America National Headquarters Building, 3717 Harney St., Omaha, 16000480

Gage County

Beatrice Downtown Historic District, Centered on 6th & Court Sts., Beatrice, 16000481

Saline County

Crete Downtown Historic District, Centered on Main Ave. & 13th St., Crete, 16000482

NEW YORK

Hamilton County

Civilian Conservation Corps Camp S-90 (Speculator), 117 Page St., Lake Pleasant, 16000485

Rensselaer County

Connors, William, Paint Manufacturing Company Building, 669 River St., Troy, 16000486

Westchester County

New York, Westchester and Boston Railway Highbrook Avenue Bridge, Highbrook Ave. between Lincoln & Harmon Aves., Pelham, 16000487

TENNESSEE

Davidson County

Jackson Park Historic District, Brush Hill Ct., Brush Hill Rd., Earlene, Kenwood, Riverwood & E. Riverwood Drs., Eastdale & Plymouth Aves., Nashville, 16000483

VIRGINIA

Bath County

Ashwood School, 5604 Sam Snead Hwy., Hot Springs, 16000484

A request for removal was received for the following resource:

VIRGINIA

Danville Independent City

Dan River Inc. Riverside Division Historic District, Both sides of Dan River roughly bounded by Union St. Dam, Main St. Bridge, Riverside & Memorial Drs., Danville (Independent City), 00000480

Authority: Section 60.13 of 36 CFR part 60.

Dated: June 21, 2016.
J. Paul Loether,
Chief, National Register of Historic Places/National Historic Landmarks Program.

[FR Doc. 2016-16061 Filed 7-6-16; 8:45 am]

BILLING CODE 4312-51-P